DEPARTMENT OF TRANSPORTATION

Maritime Administration

[Docket No. MARAD-2018-0165]

Request for Comments on the Renewal of a Previously Approved Information Collection: Maritime Administration Annual Service Obligation Compliance Report

AGENCY: Maritime Administration, DOT.

ACTION: Notice and request for comments.

SUMMARY: In compliance with the Paperwork Reduction Act of 1995, this notice announces that the Information Collection Request (ICR) abstracted below is being forwarded to the Office of Management and Budget (OMB) for review and comments. The information collection is necessary to determine if a graduate of the U.S. Merchant Marine Academy or subsidized State maritime academy graduate is complying with the terms of the service obligation. A Federal Register Notice with a 60-day comment period soliciting comments on the following information collection was published on August 1, 2018 and comments were due by October 1, 2018. No comments were received.

DATES: Comments must be submitted on or before December 10, 2018.

ADDRESSES: Send comments regarding the burden estimate, including suggestions for reducing the burden, to the Office of Management and Budget, Attention: Desk Officer for the Office of the Secretary of Transportation, 725 17th Street NW, Washington, DC 20503. Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Danielle Bennett, Telephone: 202-366-5296, Office of Maritime Labor and Training, Maritime Administration, Department of Transportation, 1200 New Jersey Avenue SE, Washington, DC 20590.

SUPPLEMENTARY INFORMATION:

Title: Maritime Administration Annual Service Obligation Compliance Report.

OMB Control Number: 2133-0509.

Type of Request: Renewal of a Previously Approved Information Collection.

Abstract: 46 U.S.C. 51306 and 46 U.S.C. 51509 imposes a service obligation on every graduate of the U.S. Merchant Marine Academy and every State maritime academy student incentive payment program graduate. This mandatory service obligation is for the Federal financial assistance the graduate received as a student. The obligation consists of (1) maintaining a U.S. Coast Guard merchant mariner credentials with an officer endorsement; (2) serving as a commissioned officer in the U.S. Naval Reserve, the U.S. Coast Guard Reserve or any other reserve unit of an armed force of the United States following graduation from an academy (3) serving as a merchant marine officer on U.S.-flag vessels or as a commissioned officer on active duty in an armed or uniformed force of the United States, NOAA Corps, USPHS Corps, or other MARAD approved service; and (4) report annually on their compliance with their service obligation after graduation.

Respondents: Graduates of the U.S. Merchant Marine Academy and State maritime academy student incentive payment program graduates.

Affected Public: Individuals and/or household.

Estimated Number of Respondents: 2,100.

Estimated Number of Responses: One response per Respondent.

Estimated Hours per Response: 20 minutes.

Annual Estimated Total Annual Burden Hours: 700.

Frequency of Response: Annually.

(Authority: The Paperwork Reduction Act of 1995; 44 U.S.C. chapter 35, as amended; and 49 CFR 1.93).

* * * * *

Dated: November 5, 2018.
By Order of the Maritime Administrator.
T. Mitchell Hudson, Jr.,
Secretary, Maritime Administration.

[FR Doc. 2018-24508 Filed 11-8-18; 8:45 am]

BILLING CODE 4910-81-P